NUCLEAR REGULATORY COMMISSION

10 CFR Parts 30, 40, 70, 170 and 171

[NRC-2009-0084]

RIN 3150-AH15

Distribution of Source Material to Exempt Persons and to General Licensees and Revision of General License and Exemptions; Extension of Comment Period

AGENCY: Nuclear Regulatory Commission.

ACTION: Proposed rule: extension of comment period.

SUMMARY: On July 26, 2010, the U. S. Nuclear Regulatory Commission (NRC or the Commission) published for public comment a proposed rule to amend its regulations to require that the initial distribution of source material to exempt persons or general licensees be explicitly authorized by a specific license. The proposed rule would also modify the existing possession and use requirements of the general license for small quantities of source material and revise, clarify, or delete certain source material exemptions from licensing. The public comment period for this proposed rule was to have expired on November 23, 2010. The NRC has determined a need to develop draft implementation guidance to support this proposed rule and plans to publish such draft guidance no later than early January 2011. In order to allow the public sufficient time to review and comment on the proposed rule with the benefit of review of the draft implementation guidance, the NRC has decided to extend the comment period until February 15, 2011.

DATES: The comment period has been extended and now expires on February 15, 2011. Comments received after this date will be considered if it is practical to do so, but the NRC is able to assure consideration only for comments received on or before this date.

ADDRESSES: Please include Docket ID NRC-2009-0084 in the subject line of your comments. For instructions on accessing documents related to this action, see “Submitting Comments and Accessing Information” in the SUPPLEMENTARY INFORMATION section of this document. You may submit comments by any one of the following methods.

Federal Rulemaking Web site: Go to http://www.regulations.gov and search for documents filed under Docket ID NRC-2009-0084. Address questions about NRC dockets to Carol Gallagher, telephone: 301-492-3668, e-mail: Carol.Gallagher@nrc.gov.

Mail comments to: Secretary, U.S. Nuclear Regulatory Commission, Washington, DC 20555-0001, ATTN: Rulemakings and Adjudications Staff.

E-mail comments to: Rulemaking.Comments@nrc.gov. If you do not receive a reply e-mail confirming that we have received your comments, contact us directly at 301-415-1677.

Hand-deliver comments to: 11555 Rockville Pike, Rockville, Maryland 20852, between 7:30 a.m. and 4:15 p.m. Federal workdays. (Telephone 301-415-1677.)

Fax comments to: Secretary, U.S. Nuclear Regulatory Commission at 301-415-1101.

FOR FURTHER INFORMATION CONTACT: Gary Comfort, Office of Federal and State Materials and Environmental Management Programs, U.S. Nuclear Regulatory Commission, Washington, DC 20555-0001, telephone: 301-415-8106, e-mail: Gary.Comfort@nrc.gov.

SUPPLEMENTARY INFORMATION:

Submitting Comments and Accessing Information

Comments submitted in writing or in electronic form will be posted on the NRC Web site and on the Federal Rulemaking Web site http://www.regulations.gov. Because your comments will not be edited to remove any identifying or contact information, the NRC cautions you against including any information in your submission that you do not want to be publicly disclosed. The NRC requests that any party soliciting or aggregating comments received from other persons for submission to the NRC inform those persons that the NRC will not edit their comments to remove any identifying or contact information, and therefore, they should not include any information in their comments that they do not want publicly disclosed.

You can access publicly available documents related to this proposed rule using the following methods:

NRC's Public Document Room (PDR): The public may examine and have copied for a fee publicly available documents at the NRC's PDR, Room O-1 F21, One White Flint North, 11555 Rockville Pike, Rockville, Maryland.

NRC's Agencywide Documents Access and Management System (ADAMS): Publicly available documents created or received at the NRC are available electronically at the NRC's Electronic Reading Room at http://www.nrc.gov/reading-rm/adams.html. From this page, the public can gain entry into ADAMS, which provides text and image files of NRC's public documents. If you do not have access to ADAMS or if there are problems in accessing the documents located in ADAMS, contact the NRC's PDR reference staff at 1-800-397-4209, 301-415-4737 or by e-mail to PDR.resource@nrc.gov.

Federal Rulemaking Web site: Public comments and supporting materials related to this proposed rule can be found at http://www.regulations.gov by searching on Docket ID NRC-2009-0084.

Discussion

The NRC published a proposed rule that would amend its regulations in part 40 of title 10 of the Code of Federal Regulations to require that the initial distribution of source material to exempt persons or general licensees be explicitly authorized by a specific license, which would include new reporting requirements. The proposed rule is intended to provide the Commission with more complete and timely information on the types and quantities of source material distributed for use either under exemption or by general licensees. In addition, the NRC is proposing to modify the existing possession and use requirements of the general license for small quantities of source material to better align the requirements with current health and safety standards. Finally, the NRC is proposing to revise, clarify, or delete certain source material exemptions from licensing to make the exemptions more risk informed. This proposed rule would affect manufacturers and distributors of certain products and materials containing source material and certain persons using source material under general license and under exemptions from licensing.

The proposed rule was published on July 26, 2010 (75 FR 43425) and the public comment period was to have expired November 23, 2010. The NRC has determined a need to develop draft implementation guidance to support this proposed rule and plans to publish the draft implementation guidance no later than early January 2011. In order to allow the public sufficient time to review and comment on the proposed rule with the benefit of review of the draft implementation guidance, the NRC has decided to extend the comment period until February 15, 2011.

Dated at Rockville, Maryland, this 10th day of November 2010.
For the Nuclear Regulatory Commission.
Annette Vietti-Cook,
Secretary of the Commission.

[FR Doc. 2010-29108 Filed 11-17-10; 8:45 am]

BILLING CODE 7590-01-P